NUCLEAR REGULATORY COMMISSION

Sunshine Act Meeting

AGENCY HOLDING THE MEETING: Nuclear Regulatory Commission.

DATE: Weeks of February 7, 14, 21, and 28, 2000.

PLACE: Commissioners' Conference Room, 11555 Rockville Pike, Rockville, Maryland.

STATUS: Public and Closed.

MATTERS TO BE CONSIDERED:

Week of February 7

Tuesday, February 8

9:30 a.m.

Discussion of Nuclear Issues in the Former Soviet Union (Closed-Ex. 1 & 9)

Wednesday, February 9

10:00 a.m.

Briefing on Status of Research Programs, Performance, and Plans (Including Status of Thermo-Hydraulics) (Public Meeting) (Contact: Jocelyn Mitchell, 301-415-5289)

Thursday, February 10

9:25 a.m.

Affirmation Session (Public Meeting) a: INTERNATIONAL URANIUM (USA) CORP. Commission Review of LBP-99-5 (Contact: Ken Hart, 301-415-1659)

9:30 a.m.

Briefing on Status of CFO Programs, Performance, and Plans (Public Meeting) (Contact: Lars Solander, 301-415-6080)

Friday, February 11

9:30 a.m.

Briefing on Status of NMSS Programs, Performance, and Plans (Public Meeting) (Contact: Claudia Seelig, 301-415-7243)

Week of February 14—Tentative

There are no meetings scheduled for the Week of February 14.

Week of February 21—Tentative

Tuesday, February 22

9:00 a.m.

Briefing on Threat Environment Assessment (Closed-Ex. 1)

11:00 a.m.

Briefing by the Executive Branch (Closed-Ex. 1)

Wednesday, February 23

8:55 a.m.

Affirmation Session (Public Meeting) (if needed)

9:00 a.m.

Briefing on Status of Spent Fuel Projects (Public Meeting) (Contact: William Brach, 301-415-8500)

10:45 a.m.

Discussion of Intragovernmental Issues (Closed-Ex. 9)

Week of February 28—Tentative

Tuesday, February 29, 2000

1:30 p.m.

Briefing on Draft 50.59 Regulatory Guide (Public Meeting) (Contact: Eileen McKenna, 301-415-2189)

Wednesday, March 1, 2000

9:00 a.m.

Briefing on Improvements in the Plant Assessment Process (Public Meeting) (Contact: Bill Dean, 301-415-1257)

Thursday, March 2, 2000

9:25 a.m.

Affirmation/Discussion and Vote (Public Meeting) (If needed)

9:30 a.m.

Meeting with ACRS on Risk Informing Part 50 (Public Meeting) (Contact: John Larkins, 301-415-7360)

Friday, March 3, 2000

9:30 a.m.

Briefing on Calvert Cliffs License Renewal (Public Meeting) (Contact: Chris Grimes, 301-415-1183)

* The schedule for Commission meetings is subject to change on short notice. To verify the status of meetings call (recording)—(301) 415-1292.

CONTACT PERSON FOR MORE INFORMATION: Bill Hill (301) 415-1661.

The NRC Commission Meeting Schedule can be found on the Internet at: http://www.nrc.gov/SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: February 4, 2000.
William M. Hill, Jr.,
SECY Tracking Officer, Office of the Secretary.

[FR Doc. 00-3192 Filed 2-8-00; 12:20 pm]

BILLING CODE 7590-01-M